NUCLEAR REGULATORY COMMISSION

10 CFR Part 110

RIN 3150-AH44

Export and Import of Nuclear Equipment and Radioactive Materials: Security Policies; Notice of Public Meeting

AGENCY: U.S. Nuclear Regulatory Commission.

ACTION: Proposed rule; notice of public meeting.

SUMMARY: A public meeting will be held to discuss the Nuclear Regulatory Commission (NRC) proposed rule amending its regulations pertaining to the export and import of nuclear equipment and materials. The proposed rule was published in the Federal Register on September 16, 2004 (69 FR 55785). This rule implements recent changes to the nuclear and radioactive material security policies of the Commission and the Executive Branch. The meeting is open to the public and all interested parties may attend.

DATES: The public meeting will be held on Tuesday, October 19, 2004, from 10 a.m. to 12 noon. Should it become necessary to change the date or time of this meeting, the NRC will provide the revised information in a meeting notice posted on the NRC's public Web site at http://www.nrc.gov/public-involve/public-meetings/meeting-schedule.html.

ADDRESSES: The public meeting will be held at the Nuclear Regulatory Commission One White Flint North Building, 11555 Rockville Pike, Rockville, Maryland, Room 1-F16.

The proposed rule, the regulatory analysis and any public comments received may be viewed and downloaded electronically via the NRC's rulemaking Web site at http://ruleforum.llnl.gov. Publicly available documents related to this rulemaking may be viewed electronically on public computers in the NRC Public Document Room (PDR), located at One White Flint North, 11555 Rockville Pike, Rockville, MD 20852, Room O-1 F21, and open to the public on Federal workdays from 7:45 a.m. until 4:15 p.m. The PDR reproduction contractor will make copies of documents for a fee.

Publicly available NRC documents created or received in connection with this rulemaking are also available electronically via the NRC's Electronic Reading Room at http://www.nrc.gov/reading-rm/adams.html. From this site, the public can gain entry into the NRC's Agencywide Document Access and Management System (ADAMS), which provides text and image files of NRC's public documents. The proposed rule is available under ADAMS accession number ML042440237; the regulatory analysis is available under accession number ML0418404900. If you do not have access to ADAMS, or if there are problems in accessing the documents located in ADAMS, contact the NRC PDR Reference staff at (800) 397-4209, (301) 415-4737 or by e-mail at PDR@nrc.gov.

FOR FURTHER INFORMATION CONTACT: Suzanne Schuyler-Hayes, Office of International Programs, U.S. Nuclear Regulatory Commission, Washington DC 20555-0001, telephone (301) 415-2333, e-mail: ssh@nrc.gov.

SUPPLEMENTARY INFORMATION: New specific licensing and reporting requirements for certain exports and imports of nuclear and radioactive material will be discussed. The meeting is open to the public.

Dated at Rockville, Maryland, this 5th day of October 2004. For the Nuclear Regulatory Commission.
James W. Clifford,
Acting Deputy Director, Office of International Programs.

[FR Doc. 04-22784 Filed 10-8-04; 8:45 am]

BILLING CODE 7590-01-P